DEPARTMENT OF HEALTH AND HUMAN SERVICES

Health Resources and Services Administration

Solicitation of Nominations for Membership To Serve on the Advisory Commission on Childhood Vaccines

AGENCY: Health Resources and Services Administration (HRSA), Department of Health and Human Services (HHS).

ACTION: Request for nominations.

SUMMARY: HRSA is seeking nominations of qualified candidates to consider for appointment as members of the Advisory Commission on Childhood Vaccines (ACCV or Commission). ACCV advises the Secretary of HHS (the Secretary) on issues related to the implementation of the National Vaccine Injury Compensation Program (VICP).

DATES: Written nominations for membership on ACCV will be received on a continuous basis.

ADDRESSES: Nomination packages must be submitted to the Director, Division of Injury Compensation Programs, Health Systems Bureau, HRSA, 5600 Fishers Lane, Room 08W-25A, Rockville, Maryland 20857. Electronic nomination packages can be submitted by email to ACCV@hrsa.gov.

FOR FURTHER INFORMATION CONTACT: Pita Gomez, Principal Staff Liaison, Division of Injury Compensation Programs, Health Systems Bureau, HRSA, at 1-800-338-2382 or email at ACCV@hrsa.gov. A copy of the ACCV charter and list of the current membership may be obtained by accessing the ACCV website at https://www.hrsa.gov/advisory-committees/vaccines/index.html.

SUPPLEMENTARY INFORMATION: ACCV was established by Title XXI of the Public Health Service Act and advises the Secretary on issues related to implementation of the VICP. ACCV meets four times each calendar year, or at the discretion of the Designated Federal Officer in consultation with the Chair.

Nominations: HRSA is requesting nominations for voting members to serve as Special Government Employees (SGEs) on ACCV to fill open positions. The Secretary appoints ACCV members with the expertise needed to fulfill the duties of the Commission. The membership requirements are set forth in section 2119 of the Public Health Service Act.

ACCV consists of nine voting members appointed by the Secretary as follows: (1) three health professionals, who are not employees of the United States government, and who have expertise in the health care of children, the epidemiology, etiology, and prevention of childhood diseases, and the adverse reactions associated with vaccines, of whom at least two shall be pediatricians; (2) three members from the general public, of whom at least two shall be legal representatives (parents or guardians) of children who have suffered a vaccine-related injury or death; and (3) three attorneys, of whom at least one shall be an attorney whose specialty includes representation of persons who have suffered a vaccine-related injury or death, and of whom one shall be an attorney whose specialty includes representation of vaccine manufacturers. In addition, the Director of the National Institutes of Health, the Assistant Secretary for Health, the Director of the Centers for Disease Control and Prevention, and the Commissioner of the Food and Drug Administration (or the designees of such officials) serve as nonvoting ex officio members.

HHS will consider nominations of all qualified individuals to ensure the ACCV includes the areas of subject matter expertise noted above. As indicated, at least two of the three ACCV members from the general public must be legal representatives (parents or guardians) of children who have suffered a vaccine-related injury or death. To be considered for appointment to the ACCV in that category, there must have been a finding (i.e., a decision) by the U.S. Court of Federal Claims or a civil court that a VICP-covered vaccine caused, or was presumed to have caused, the represented child's injury or death. Additionally, based on a recommendation made by ACCV, the Secretary will consider having a health professional with expertise in obstetrics as one of the members from the general public. Interested applicants may self-nominate or be nominated by another individual or organization.

Individuals selected for appointment to the Commission will be invited to serve for up to 3 years. Members appointed as SGEs receive a stipend and reimbursement for per diem and travel expenses incurred for attending ACCV meetings and/or conducting other business on behalf of ACCV, as authorized by 5 U.S.C. 5703, for persons employed intermittently in government service.

The following information must be included in the package of materials submitted for each individual nominated for consideration: (1) a letter of nomination stating the name, affiliation, and contact information for the nominee, the basis for the nomination (i.e., what specific attributes, perspectives, and/or skills does the individual possess that would benefit the workings of ACCV) and the nominee's field(s) of expertise; (2) the name, address, daytime telephone number, and email address at which the nominator can be contacted; and (3) a current copy of the nominee's curriculum vitae or resume. Nomination packages may be submitted directly by the individual being nominated or by the person/organization recommending the candidate. Nomination packages will be collected and retained to create a pool of possible future ACCV voting members. When a vacancy occurs, nomination packages from the appropriate category will be reviewed and nominees may be contacted at that time.

HHS endeavors to ensure that the membership of ACCV is balanced in terms of points of view represented and that individuals from a broad representation of geographic areas, gender, and ethnic and minority groups, as well as individuals with disabilities, are considered for membership. Appointments shall be made without discrimination on the basis of age, disability, race, ethnicity, gender, sexual orientation, national origin, or cultural, religious, or socioeconomic status.

Individuals who are selected to be considered for appointment will be required to provide detailed information regarding their financial holdings, consultancies, and research grants or contracts. Disclosure of this information is required for HRSA ethics officials to determine whether there is a potential conflict of interest between the SGE's public duties as a member of ACCV and their private interests, including an appearance of a loss of impartiality as defined by federal laws and regulations, and to identify any required remedial action needed to address the potential conflict.

Authority: Under the authorities that established the ACCV, the Federal Advisory Committee Act of October 6, 1972, (Pub. L. 92-463, as amended) and 42 U.S.C. 300aa-19, section 2119 of the Public Health Services (PHS) Act, HRSA is requesting nominations for voting members of ACCV.

Maria G. Button,
Director, Executive Secretariat.

[FR Doc. 2024-19808 Filed 9-3-24; 8:45 am]

BILLING CODE 4165-15-P